DEPARTMENT OF ENERGY

Federal Energy Regulatory Commission

[Docket No. ER01-651-001 and ER01-2970-000]

Southwestern Electric Power Company; Notice of Filing

October 5, 2001.

Take notice that on September 13, 2001, Southwestern Electric Power Company (SWEPCO), tendered for filing with the Federal Energy Regulatory Commission (Commission) a Restated and Amended Power Supply Agreement between SWEPCO and Rayburn Country Electric Cooperative, Inc (Rayburn Country).

SWEPCO has served copies to this notice on Rayburn Country, and the Public Utilities Commission of Texas and all parties to this docket.

Any person desiring to be heard or to protest such filing should file a motion to intervene or protest with the Federal Energy Regulatory Commission, 888 First Street NE., Washington, DC 20426, in accordance with Rules 211 and 214 of the Commission's Rules of Practice and Procedure (18 CFR 385.211 and 385.214). All such motions and protests should be filed on or before October 17, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-25634 Filed 10-11-01; 8:45 am]

BILLING CODE 6717-01-P